SECURITIES AND EXCHANGE COMMISSION

[Release No. 34-49544A; File No. PCAOB-2004-03]

Public Company Accounting Oversight Board; Notice of Filing of Proposed Rule on Auditing Standard No. 2, An Audit of Internal Control Over Financial Reporting Performed in Conjunction With an Audit of Financial Statements; Correction

April 13, 2004.

Correction

On April 8, 2004, the Securities and Exchange Commission issued Release No. 34-49544 to solicit comments on the Public Company Accounting Oversight Board's Proposed Rule on Auditing Standard No. 2, An Audit of Internal Control Over Financial Reporting Performed in Conjunction with an Audit of Financial Statements. The last sentence in Section IV of this release incorrectly indicates a 21-day comment period instead of a 30-day comment period for the proposed rule.

Accordingly, the last sentence under the section heading “IV. Solicitation of Comments” should be revised to read “All comments should be submitted on or before May 17, 2004.”

Margaret H. McFarland,
Deputy Secretary.

[FR Doc. 04-8731 Filed 4-16-04; 8:45 am]

BILLING CODE 8010-01-P